DEPARTMENT OF ENERGY

Federal Energy Regulatory Commission

Combined Notice of Filings #1

April 19, 2010.

Take notice that the Commission received the following exempt wholesale generator filings:

Docket Numbers: EG10-32-000.

Applicants: White Oak Energy LLC.

Description: Notice of Self-Certification of Exempt Wholesale Generator Status of White Oak Energy LLC.

Filed Date: 04/16/2010.

Accession Number: 20100416-5083.

Comment Date: 5 p.m. Eastern Time on Friday, May 7, 2010.

Take notice that the Commission received the following electric rate filings:

Docket Numbers: ER10-753-001.

Applicants: California Independent System Operator Corporation.

Description: The California Independent System Operator Corp submits Substitute Second Revised Sheet 365 et al. to FERC Gas Tariff, Fourth Replacement Volume 1 in compliance with the Commission's April 6, 2010.

Filed Date: 04/15/2010.

Accession Number: 20100416-0204.

Comment Date: 5 p.m. Eastern Time on Thursday, May 6, 2010.

Docket Numbers: ER10-941-001.

Applicants: Southwest Power Pool, Inc.

Description: Southwest Power Pool, Inc submits executed Protocols to be appended to the Letter Agreement Regarding Comprehensive Seams Agreement with Entergy Services, Inc etc.

Filed Date: 04/16/2010.

Accession Number: 20100419-0204.

Comment Date: 5 p.m. Eastern Time on Friday, May 7, 2010.

Docket Numbers: ER10-973-001.

Applicants: Delmarva Power & Light Company.

Description: Delmarva Power & Light Company submits Original Service Agreement 2450 to FERC Electric Tariff, Sixth Revised Volume 1 to be effective 5/1/10.

Filed Date: 04/16/2010.

Accession Number: 20100416-0215.

Comment Date: 5 p.m. Eastern Time on Friday, May 7, 2010.

Docket Numbers: ER10-982-001.

Applicants: New York Independent System Operator.

Description: New York Independent System Operator, Inc submits Substitute Original Sheet 574C et al. to FERC Electric Tariff, Original Volume 1 to be effective 5/31/10.

Filed Date: 04/16/2010.

Accession Number: 20100419-0202.

Comment Date: 5 p.m. Eastern Time on Monday, April 26, 2010.

Docket Numbers: ER10-1002-001.

Applicants: Consolidated Edison Company of New York.

Description: Consolidated Edison Company of New York, Inc submits Substitute Fourth Revised Sheet 43 et al. to its FERC Electric Tariff, First Revised Rate Schedule 96 PASNY Delivery Service.

Filed Date: 04/16/2010.

Accession Number: 20100416-0211.

Comment Date: 5 p.m. Eastern Time on Friday, May 7, 2010.

Docket Numbers: ER10-1005-001.

Applicants: New York Independent System Operator.

Description: New York Independent System Operator, Inc submits Substitute Ninth Revised Sheet 51 et al. to FERC Electric Tariff, Original Volume 1 to be effective 5/31/10.

Filed Date: 04/16/2010.

Accession Number: 20100419-0203.

Comment Date: 5 p.m. Eastern Time on Friday, May 7, 2010.

Docket Numbers: ER10-1048-001.

Applicants: Commonwealth Edison Company.

Description: Commonwealth Edison Company submits tariff filing per 35: Baseline Tariff Corrected Filing to be effective 4/14/2010.

Filed Date: 04/15/2010.

Accession Number: 20100415-5095.

Comment Date: 5 p.m. Eastern Time on Thursday, May 6, 2010.

Docket Numbers: ER10-1057-000.

Applicants: Xcel Energy Operating Companies.

Description: Xcel Energy Operating Companies submits Original Sheet 9.1 et al. to its FERC Electric Tariff, First Revised Volume 1 to be effective 5/28/10.

Filed Date: 04/15/2010.

Accession Number: 20100415-0203.

Comment Date: 5 p.m. Eastern Time on Thursday, May 6, 2010.

Docket Numbers: ER10-1058-000.

Applicants: Pacific Gas and Electric Company.

Description: Pacific Gas and Electric Company submits revisions to the Service Agreement for Wholesale Distribution Service with Western Area Power Administration.

Filed Date: 04/15/2010.

Accession Number: 20100415-0204.

Comment Date: 5 p.m. Eastern Time on Thursday, May 6, 2010.

Docket Numbers: ER10-1059-000.

Applicants: The United Illuminating Company.

Description: The United Illuminating Company submits an executed Localized Costs Sharing Agreement with GenConn Devon, LLC.

Filed Date: 04/16/2010.

Accession Number: 20100416-0212.

Comment Date: 5 p.m. Eastern Time on Friday, May 7, 2010.

Docket Numbers: ER10-1060-000.

Applicants: Southern California Edison Company.

Description: Southern California Edison Company submits Six Revised Sheet 42 et al. First Revised Rate Schedule FERC No. 403 to be effective 6/16/10.

Filed Date: 04/16/2010.

Accession Number: 20100416-0213.

Comment Date: 5 p.m. Eastern Time on Friday, May 7, 2010.

Docket Numbers: ER10-1061-000.

Applicants: Southern California Edison Company.

Description: Southern California Edison Company submits a revised rate sheet reflecting cancellation of the Edison-Los Angeles Owens Valley Transmission Service Agreement with Dept of Water and Power of the City of Los Angeles.

Filed Date: 04/16/2010.

Accession Number: 20100416-0214.

Comment Date: 5 p.m. Eastern Time on Friday, May 7, 2010.

Docket Numbers: ER10-1063-000.

Applicants: Vermont Transco LLC.

Description: Vermont Transco, LLC submits Substation Participation Agreement, currently designated as Rate Schedule 7 etc to be effective 5/1/10.

Filed Date: 04/16/2010.

Accession Number: 20100419-0205.

Comment Date: 5 p.m. Eastern Time on Friday, May 7, 2010.

Take notice that the Commission received the following electric securities filings:

Docket Numbers: ES10-33-000.

Applicants: Consumers Energy Company.

Description: Consumers Energy Company's Application for authorization to issue Short term securities.

Filed Date: 04/16/2010.

Accession Number: 20100416-5186.

Comment Date: 5 p.m. Eastern Time on Friday, May 7, 2010.

Docket Numbers: ES10-34-000.

Applicants: Consumers Energy Company.

Description: Consumers Energy Company's Application for authorization to issue Long term securities.

Filed Date: 04/16/2010.

Accession Number: 20100416-5189.

Comment Date: 5 p.m. Eastern Time on Friday, May 7, 2010.

Take notice that the Commission received the following open access transmission tariff filings:

Docket Numbers: OA07-37-003.

Applicants: E.ON U.S. LLC.

Description: Penalty Assessment and Distribution Report of E.ON U.S. LLC.

Filed Date: 04/16/2010.

Accession Number: 20100416-5145.

Comment Date: 5 p.m. Eastern Time on Friday, May 7, 2010.

Docket Numbers: OA07-53-006.

Applicants: Progress Energy, Inc.

Description: Progress Energy, Inc. submits Annual Penalty Revenues Report on behalf of Carolina Power & Light Company and Florida Power Corporation.

Filed Date: 04/16/2010.

Accession Number: 20100416-5043.

Comment Date: 5 p.m. Eastern Time on Friday, May 7, 2010.

Docket Numbers: OA07-54-008.

Applicants: PacifiCorp.

Description: Annual Report on Operational Penalties of PacifiCorp.

Filed Date: 04/16/2010.

Accession Number: 20100416-5075.

Comment Date: 5 p.m. Eastern Time on Friday, May 7, 2010.

Docket Numbers: OA08-111-002.

Applicants: Portland General Electric Company.

Description: Portland General Electric Company 2009 Annual Informational Filing on Operational Penalty Assessments and Distributions as Required by Order Nos. 890 and 890-A.

Filed Date: 04/16/2010.

Accession Number: 20100416-5187.

Comment Date: 5 p.m. Eastern Time on Friday, May 7, 2010.

Docket Numbers: OA08-126-002.

Applicants: Mid-Continent Area Power Pool.

Description: Mid-Continent Area Power Pool Re: Annual Compliance Report of Penalty Assessments and Distributions.

Filed Date: 04/16/2010.

Accession Number: 20100416-5146.

Comment Date: 5 p.m. Eastern Time on Friday, May 7, 2010.

Docket Numbers: OA09-22-002.

Applicants: Florida Power & Light Company.

Description: Annual Compliance Report Regarding Penalties for Unreserved Use of Florida Power & Light Company.

Filed Date: 04/19/2010.

Accession Number: 20100419-5156.

Comment Date: 5 p.m. Eastern Time on Monday, May 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-10077 Filed 4-29-10; 8:45 am]

BILLING CODE 6717-01-P